POSTAL REGULATORY COMMISSION

[Docket No. MC2011-25; Order No. 732]

Product List Transfer

AGENCY: Postal Regulatory Commission.

ACTION: Notice.

SUMMARY: The Commission is noticing a recently-filed Postal Service request to transfer Post Office Box Service at 6800 locations from the market dominant product list to the competitive product list. The affected locations comprise almost 44 percent of all post office boxes used by customers. This notice briefly describe the proposal, invites comments from interested persons, and takes related administrative steps.

DATES: Comments are due: June 10, 2011; reply comments are due: June 17, 2011.

ADDRESSES: Submit comments electronically by accessing the “Filing Online” link in the banner at the top of the Commission's Web site (http://www.prc.gov) or by directly accessing the Commission's Filing Online system at https://www.prc.gov/prc-pages/filing-online/login.aspx. Commenters who cannot submit their views electronically should contact the person identified in the FOR FURTHER INFORMATION CONTACT section as the source for case-related information for advice on alternatives to electronic filing.

FOR FURTHER INFORMATION CONTACT: Stephen L. Sharfman, General Counsel, at 202-789-6820 (case-related information) or DocketAdmins@prc.gov (electronic filing assistance).

SUPPLEMENTARY INFORMATION:

Table of Contents

I. Background

II. Notice of Filing

III. Ordering Paragraphs

I. Background

On May 13, 2011, the Postal Service filed a request under 39 U.S.C. 3642 and 39 CFR 3020.30 et seq. to transfer Post Office Box (P.O. Box) Service at selected locations from the market dominant to the competitive product list.¹

¹ Request of the United States Postal Service to Transfer Post Office Box Service in Selected Locations to the Competitive Product List, May 13, 2011 (Request).

In Order No. 473, the Commission approved the Postal Service's request to add P.O. Box Service as a new competitive product and transfer a small segment of P.O. Box Service locations to the competitive product list.² The Postal Service noted that it was evaluating all P.O. Box Service locations and may propose additional transfers if justified. Id. at 3.

² Docket No. MC2010-20, Order Approving Request to Transfer Selected Post Office Box Service Locations to the Competitive Product List, June 17, 2010, at 15 (Order No. 473).

Having completed its evaluation, the Postal Service asks the Commission to transfer P.O. Box Service at approximately 6,800 locations from the market dominant to the competitive product list. Request at 1. These locations comprise approximately one-fifth of all P.O. Box Service locations and almost 44 percent of all post office boxes used by customers. Id. at 1-2. If the Commission approves the Request, almost 49 percent of all post office boxes would be classified as competitive, excluding Group E boxes. Id. at 2 n.5.

The Postal Service selected the 6,800 locations based on whether its customers have sufficient access to private mailbox service providers. Id. at 2. In general, these locations serve customers who live within five miles of a current or recent private mailbox service provider. Id., Attachment B at 4-5; Attachment C. The Postal Service excluded those P.O. Box Service locations that restrict customer access or have a small customer base.³ Id., Attachment B at 5-6. Those locations will remain on the market dominant product list despite their proximity to a private mailbox service provider. Id., Attachment B at 10.

³ For business reasons, the Postal Service excluded from the proposed transfer all locations with 250 or fewer post office box customers. Request, Attachment B at 6. However, the proposed Mail Classification Schedule (MCS) language refers to a “small customer base” without a specific definition. Id., Attachment C. The Postal Service explains that it needs flexibility in the MCS language to prevent P.O. Box Service locations from switching back and forth between the market dominant and competitive product lists if the number of post office boxes exceeds or falls below 250. Id., Attachment B at 10 n.14.

The Postal Service notes that it may ask the Commission to transfer other P.O. Box Service locations in the future as it studies the mailbox service market. Id. at 2.

To support its Request, the Postal Service filed the following attachments:

• Attachment A—Resolution of the Governors of the United States Postal Service on Transferring Selected Post Office Box Service Locations to the Competitive Product List, May 10, 2011 (Resolution No. 11-8);

• Attachment B—Statement of Supporting Justification; and

• Attachment C—Proposed MCS Changes.

II. Notice of Filing

The Commission establishes Docket No. MC2011-25 to consider the Postal Service's proposals described in its Request.

Interested persons may submit comments on whether the Request is consistent with the policies of 39 U.S.C. 3642, 39 CFR 3020.30 et seq., and the general provisions of title 39. Comments are due by June 10, 2011. Reply comments are due by June 17, 2011. The Request and related filings are available on the Commission's Web site (http://www.prc.gov). The Commission encourages interested persons to review the Request for further details.

The Commission appoints Tracy N. Ferguson to serve as Public Representative in this proceeding.

III. Ordering Paragraphs

It is ordered:

1. The Commission establishes Docket No. MC2011-25 to consider the matters raised by the Postal Service's Request.

2. Pursuant to 39 U.S.C. 505, Tracy N. Ferguson is appointed to serve as officer of the Commission (Public Representative) to represent the interests of the general public in this proceeding.

3. Comments by interested persons are due by June 10, 2011.

4. Reply comments are due by June 17, 2011.

5. The Secretary shall arrange for publication of this order in the Federal Register.

By the Commission.
Shoshana M. Grove,
Secretary.

[FR Doc. 2011-12625 Filed 5-23-11; 8:45 am]

BILLING CODE 7710-FW-P